DEPARTMENT OF COMMERCE

National Oceanic and Atmospheric Administration

[I.D. 022001E]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Law Enforcement Advisory Panel (LEAP).

DATES: This meeting will be held on March 14, 2001, from 1 p.m. to 5 p.m.

ADDRESSES: This meeting will be held at the Holiday Inn Fort Brown, 1900 East Elizabeth, Brownsville, TX 78520; telephone: 956-546-2201.

Council address: Gulf of Mexico Fishery Management Council, 3018 U.S. Highway 301 North, Suite 1000, Tampa, FL 33619.

FOR FURTHER INFORMATION CONTACT: Richard Leard, Senior Fishery Biologist, Gulf of Mexico Fishery Management Council; telephone: 813-228-2815.

SUPPLEMENTARY INFORMATION: The LEAP will convene to hear options papers for Amendment 10 to the Shrimp Fishery Management Plan (FMP) and Amendment 18 to the Reef Fish FMP. The Options Paper for Amendment 10 to the Shrimp FMP contains alternatives to address additional bycatch reduction from shrimp trawls used in the Exclusive Economic Zone (EEZ) off Florida, south and east of Cape San Blas (85°30' W. Longitude). Some of the alternatives being considered include additional or extended closed areas and/or seasons and requiring bycatch reduction devices. The Options Paper for Amendment 18 to the Reef Fish FMP contains options for a comprehensive management strategy for groupers and includes alternatives for effort management, gear allowances, size limits, bag limits, and adjustments to fishing seasons and areas, among others. The LEAP will also review a Draft Amendment for a Charter Vessel/Headboat Permit Moratorium that includes various alternatives to cap effort in the charter industry of the Gulf. The LEAP will also receive status reports of various FMPs, Amendments, and Regulatory Actions; state and federal enforcement reports; and consider adoption of a Cooperative Law Enforcement Operations Plan for 2001 that was developed by the LEAP and the Gulf States Marine Fisheries Commission’s Law Enforcement Committee.

The LEAP consists of principal law enforcement officers in each of the Gulf states as well as NMFS, the U.S. Coast Guard, and NOAA General Counsel. A copy of the agenda and related materials can be obtained by calling the Council office at 813-228-2815.

Although other non-emergency issues not on the agendas may come before the LEAP for discussion, in accordance with the Magnuson-Stevens Fishery Conservation and Management Act, those issues may not be the subject of formal action during this meetings. Actions of the LEAP will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by March 7, 2001.

Dated: February 20, 2001.
Richard W. Surdi,
Acting Director, Office of Sustainable Fisheries, National Marine Fisheries Service.

[FR Doc. 01-4695 Filed 2-26-01; 8:45 am]

BILLING CODE 3510-22-S